DEPARTMENT OF TRANSPORTATION

Maritime Administration

[Docket No. MARAD-2024-0112]

Request for Comments on the Renewal of a Previously Approved Information Collection: Voluntary Intermodal Sealift Agreement (VISA)

AGENCY: Maritime Administration, DOT.

ACTION: Notice.

SUMMARY: The Maritime Administration (MARAD) invites public comments on our intention to request the Office of Management and Budget (OMB) approval to renew an information collection in accordance with the Paperwork Reduction Act of 1995. The proposed collection OMB 2133-0532 (Voluntary Intermodal Sealift Agreement (VISA)) is used by MARAD and United States Transportation Command (USTRANSCOM) to assess an applicant's eligibility for participation in VISA. The form is being updated to reflect changes in statute and to better align with current program operations. We are required to publish this notice in the Federal Register to obtain comments from the public and affected agencies.

DATES: Comments must be submitted on or before October 8, 2024.

ADDRESSES: You may submit comments identified by Docket No. MARAD-2024-0112 through one of the following methods:

• Federal eRulemaking Portal: www.regulations.gov. Search using the above DOT docket number and follow the online instructions for submitting comments.

• Mail or Hand Delivery: Docket Management Facility, U.S. Department of Transportation, 1200 New Jersey Avenue SE, West Building, Room W12-140, Washington, DC 20590, between 9 a.m. and 5 p.m., Monday through Friday, except on Federal holidays.

Instructions: All submissions must include the agency name and docket number for this rulemaking.

Note: All comments received will be posted without change to www.regulations.gov including any personal information provided.

Comments are invited on: (a) whether the proposed collection of information is necessary for the Department's performance; (b) the accuracy of the estimated burden; (c) ways for the Department to enhance the quality, utility, and clarity of the information collection; and (d) ways that the burden could be minimized without reducing the quality of the collected information. The agency will summarize and/or include your comments in the request for OMB's clearance of this information collection.

FOR FURTHER INFORMATION CONTACT: David Hatcher, 202-366-0688, Director, Office of Sealift Support, Maritime Administration, U.S. Department of Transportation, 1200 New Jersey Avenue SE, Room W25-310, Mail Stop 1, Washington, DC 20590, Email: David.Hatcher1@dot.gov.

SUPPLEMENTARY INFORMATION:

Title: Voluntary Intermodal Sealift Agreement (VISA).

OMB Control Number: 2133-0532.

Type of Request: Revision of a Currently Approved Collection.

Abstract: The collection is in accordance with the operation of a voluntary agreement and plan of action established under section 708 of the Defense Production Act, 1950, as amended (50 U.S.C. 4558), under which participants agree to provide commercial sealift capacity and associated intermodal shipping services and systems necessary to meet national defense requirements in times of armed conflict or national emergency. To meet national defense requirements, the Government must assure the continued availability of commercial sealift resources. The information collection is needed by MARAD and the Department of Defense, including representatives from USTRANSCOM, to evaluate and assess the applicants' eligibility for participation in the VISA program.

Respondents: Owners and operators of qualified U.S.-Flag dry cargo vessels.

Affected Public: Business or other for-profit entities.

Estimated Number of Respondents: 40.

Estimated Number of Responses: 1.

Estimated Hours per Response: 5.

Annual Estimated Total Annual Burden Hours: 200.

Frequency of Response: Once Annually.

(Authority: The Paperwork Reduction Act of 1995; 44 U.S.C. chapter 35, as amended; and 49 CFR 1.49.)

By Order of the Maritime Administrator.
T. Mitchell Hudson, Jr.,
Secretary, Maritime Administration.

[FR Doc. 2024-17702 Filed 8-8-24; 8:45 am]

BILLING CODE 4910-81-P